DEPARTMENT OF DEFENSE

Department of the Army, Corps of Engineers

Coastal Engineering Research Board (CERB)

AGENCY: U.S. Army Corps of Engineers, DoD.

ACTION: Notice of meeting.

SUMMARY: In accordance with Section 10(a)(2) of the Federal Advisory Committee Act (Pub. L. 92-463), announcement is made of the following committee meeting:

Name of Committee: Coastal Engineering Research Board (CERB).

Date of Meeting: July 31—August 1, 2001.

Place: U.S. Army Engineer District, Galveston, Galveston, Texas.

Time: 8:00 a.m. to 6:00 p.m. (July 31, 2001); 8:00 a.m. to 1:30 p.m. (August 1, 2001).

FOR FURTHER INFORMATION CONTACT: Inquiries and notice of intent to attend the meeting may be addressed to Mr. Thomas W. Richardson, Acting Director, Coastal and Hydraulics Laboratory, U.S. Army Engineer Research and Development Center, Waterways Experiment Station, 3909 Halls Ferry Road, Vicksburg, Mississippi 39180-6199.

SUPPLEMENTARY INFORMATION: Proposed Agenda: On Tuesday, July 31, the morning session will consist of presentations concerning Muddy Coast Problems, Feasibility Study on Upper Third of the Texas Coast, and status reports on Section 227 Demonstration Projects. A field trip is planned for the afternoon of July 31. On Wednesday, August 1, there will be presentations on the following: Regional Sediment Management Status Report; Regional Sediment Management Research and Development Initiative; System-Wide Modeling, Assessment, and Restoration Technology (SMART) Research and Development Initiative; Navigation Trends Work Unit; and Civil Works Strategic Planning Process, followed by an Executive Working Session.

These meetings are open to the public; participation by the public is scheduled for 11:30 a.m. on July 31.

The entire meeting is open to the public, but since seating capacity of the meeting room is limited, advance notice of intent to attend, although not required, is requested in order to assure adequate arrangements. Oral participation by public attendees is encouraged during the time scheduled on the agenda; written statements may be submitted prior to the meeting or up to 30 days after the meeting.

Thomas W. Richardson,
Acting Director, Coastal and Hydraulics Laboratory.

[FR Doc. 01-16834 Filed 7-3-01; 8:45 am]

BILLING CODE 3710-61-M